DEPARTMENT OF HEALTH AND HUMAN SERVICES

Centers for Medicare & Medicaid Services

[Document Identifier: CMS-10065/10066]

Agency Information Collection Activities: Proposed Collection; Comment Request; Correction

AGENCY: Centers for Medicare & Medicaid Services (CMS), HHS.

ACTION: Correction of notice.

SUMMARY: This document corrects the information provided for [Document Identifier: CMS-10065/10066] titled “Hospital Notices: IM/DND.”

FOR FURTHER INFORMATION CONTACT: William N. Parham, III, (410) 786-4669.

SUPPLEMENTARY INFORMATION:

I. Background

In the February 22, 2019, issue of the Federal Register (84 FR 5690), we published a Paperwork Reduction Act notice requesting a 60-day public comment period for the information collection request identified under CMS-10065/10066, OMB control number 0938-1019, and titled “Hospital Notices: IM/DND.”

II. Explanation of Error

In the February 22, 2019, notice, the information provided in the second column in the middle of the notice, on page 5691, was published with incorrect information at the end of the notice. This notice corrects the language found at the end of the notice, under the second column in the middle of the notice, on page 5691 of the February 22nd notice. The related public comment period remains in effect and ends April 23, 2019.

III. Correction of Error

In FR Doc. 2019-03015 of February 22, 2019 (84 FR 5690), page 5691, the language in the second column, in the middle of the notice that begins with “[(For policy questions regarding” and ends with “1799.)],” is corrected to read as follows:

[(For policy questions regarding this collection contact Janet Miller at Janet.Miller@cms.hhs.gov.)]

Dated: February 22, 2019.
William N. Parham, III,
Director, Paperwork Reduction Staff, Office of Strategic Operations and Regulatory Affairs.

[FR Doc. 2019-03462 Filed 2-27-19; 8:45 am]

BILLING CODE 4120-01-P